DEPARTMENT OF HOUSING AND URBAN DEVELOPMENT

[Docket No. FR-5946-N-01]

Notice of Regulatory Waiver Requests Granted for the First Quarter of Calendar Year 2016

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2016, and ending on March 31, 2016.

FOR FURTHER INFORMATION CONTACT: For general information about this notice, contact Aaron Santa Anna, Assistant General Counsel for Regulations, Department of Housing and Urban Development, 451 7th Street SW., Room 10276, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the first quarter of calendar year 2016.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2016 through March 31, 2016. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2016) before the next report is published (the second quarter of calendar year 2016), HUD will include any additional waivers granted for the first quarter in the next report.

Accordingly, information about approved waiver requests pertaining to HUD regulations is provided in the Appendix that follows this notice.

Dated: June 2, 2016.
Helen R. Kanovsky,
General Counsel.

Appendix

Listing of Waivers of Regulatory Requirements Granted by Offices of the Department of Housing and Urban Development January 1, 2016 Through March 31, 2016

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 91.105(c)(2).

Project/Activity: Clackamas County, OR requested a waiver of 24 CFR 91.105(c)(2) in order to shorten its citizen comment period for a Consolidated Plan amendment in order to provide emergency relocation assistance to qualified displaced low- and moderate-income residents of two apartment complexes that required an emergency evacuation in the storm affected area that experienced prolonged periods of heavy rainfall resulting in flooding, electrical outages, and significant landslides.

Nature of Requirement: The regulation at 24 CFR 91.105(c)(2) requires that citizens be provided with reasonable notice and an opportunity to comment on substantial amendments to its consolidated plan. The citizen participation plan requires that citizens be given no less than 30 days to comment on substantial amendments before they are implemented. The city asked to shorten its citizen comment period to seven days so that it may quickly reallocate Community Development Block Grant (CDBG) funds on the effects of the extreme winter storms.

Granted By: Harriet Tregoning, Principal Deputy Assistant Secretary for Community Planning and Development.

Date Granted: January 11, 2016.

Reason Waived: The county was allowed to shorten its comment period from 30 days to 7 days so it could provide emergency relocation assistance more quickly to qualified displaced low- and moderate-income residents displaced by an evacuation order.

Contact: Steve Johnson, Director, Entitlement Communities Division, Community Planning and Development, Department of Housing and Urban Development, 451 7th Street SW., Room 7282, Washington, DC 20410, telephone (202) 402-4548.

• Regulation: 24 CFR 92.214(a)(6).

Project/Activity: The City of Salem, OR, requested a waiver of 24 CFR 92.214(a)(6), which prohibits additional assistance under HOME Investment Partnership (HOME) to a project previously assisted with HOME funds during the period of affordability. The City requested this waiver in order to invest $210,330 of HOME funds into three HOME rental projects—Chemawa Village, Marilyn Townhomes, and Renaissance Place.

Nature of Requirement: The regulation at 24 CFR 92.214(a)(6) prohibits, except for one year after project completion, HOME assistance from being provided to a project that was previously assisted with HOME funds during the period of affordability.

Granted By: Harriet Tregoning, Principal Deputy Assistant Secretary for Community Planning and Development.

Date Granted: March 11, 2016.

Reason Waived: In 2013, HUD was notified that Salem Kaiser Community Development Corporation (SKCDC), responsible for 148 HOME-assisted rental units in 10 properties, was experiencing financial and operational issues. HUD provided extensive technical assistance and in 2014 ownership of SKCDC's portfolio was transferred to Catholic Community Service Foundation (CCSF). A portfolio analysis indicated that each of the three projects—Chemawa Village, Marilyn Townhomes, and Renaissance Place—had negative net operating income, was unable to service debt flow, had significant deferred maintenance, and had no replacement reserve. The City sought this waiver to assist CCSF in preserving the affordable HOME-assisted units, by investing $210,330 of HOME funds, and an additional $251,808 of CDBG funds, to rehabilitate 21 HOME units. The investment of additional HOME funds is still within the HOME maximum per-unit subsidy limits at 24 CFR 92.205(a). In addition, as a condition of the waiver, HUD is requiring that the City extend the periods of affordability for each of the three projects for an additional five years.

Contact: Virginia Sardone, Director, Office of Affordable Housing Programs, Community Planning and Development, Department of Housing and Urban Development, 451 7th Street SW., Room 7164, Washington, DC 20410, telephone (202) 708-2684.

• Regulation: 24 CFR 570.200(g).

Project/Activity: In September 2014, Snohomish County, WA received a $1.5 million supplemental CDBG award that was reallocated under section 106(c)(4) of the Housing and Community Development Act. The funds were to be used as a portion of the requisite match for Hazard Mitigation Program Grant funds from the Federal Emergency Management Agency (FEMA) for voluntary buyouts of properties impacted by the State Road 530 Flooding and Mudslide disaster.

Nature of Requirement: The regulation at 24 CFR 570.200(g) requires that recipients limit the amount of CDBG funds obligated for planning and administration during each program year to an amount no greater than 20 percent of the sum of its grant(s) made for that program year plus the program income received by the recipient and its subrecipients during that program year.

Granted By: Harriet Tregoning, Principal Deputy Assistant Secretary for Community Planning and Development.

Date Granted: January 29, 2016.

Reason Waived: The county did not receive its supplemental funds until midway through its 2014 program year and anticipated the need for additional administrative and planning obligations associated with the buyout activities, as it may take several years to complete the activities and expend the supplemental CDBG funds.

The waiver of the provisions of 24 CFR 570.200(g) allows the obligation of up to 20 percent of its supplemental award over the life of the grant, rather than solely during program year 2014. Absent a waiver, the county would effectively be prevented from using the statutorily-allowed percentage of funds for administrative and planning purposes needed to carry out activities under its supplemental award.

Contact: Steve Johnson, Director of Entitlement Communities Division, Community Planning and Development, Department of Housing and Urban Development, 451 7th Street SW., Room 7282, Washington, DC 20410, telephone (202) 402-4548.

• Regulation: 24 CFR 570.200(h).

Project/Activity: On January 28, 2016, HUD issued a CPD Notice CPD-16-01 ¹ implementing procedures to govern the submission and review of consolidated plans and action plans for FY 2016 funding prior to the enactment of a FY 2016 HUD appropriation bill. These procedures apply to any Entitlement, Insular or Hawaii nonentitlement grantee with a program year start date prior to, or up to 60 days after, HUD's announcement of the FY 2016 formula program funding allocations for CDBG, ESG, HOME and HOPWA formula funding. Any grantee with an FY 2016 program year start date during the period starting October 1, 2015, and ending August 16, 2016 or 60 days after HUD announcement of FY 2016 allocation amounts (whichever comes first), is advised not to submit its consolidated plan/action plan until the FY 2016 formula allocations have been announced.

¹ See https://www.hudexchange.info/resources/documents/Notice-CPD-16-01-Guidance-on-Submitting-Consolidated-Plans-and-Annual-Action-Plans-for-FY-2016.pdf.

Nature of Requirement: The Entitlement CDBG program regulations provide for situations in which a grantee may incur costs against its CDBG grant prior to the award of its grant from HUD. Under the regulations at 24 CFR 570.200(h), the effective date of a grantee's grant agreement is either the grantee's program year start date or the date that the grantee's annual action plan is received by HUD, whichever is later. This waiver would allow grantees to treat the effective date of the FY 2016 program year as the grantee's program year start date or date or the date that the grantee's annual action plan is received by HUD, whichever is earlier.

Granted By: Harriet Tregoning, Principal Deputy Assistant Secretary for Community Planning and Development.

Date Granted: January 6, 2016, for effect on October 21, 2015.

Reason Waived: Under the provisions of the Notice, a grantee's action plan may not be submitted to (and thus received by) HUD until several months after the grantee's program year start date. Lengthy delays in the receipt of annual appropriations by HUD, and implementation of the policy to delay submission of FY 2016 Action Plans, may have negative consequences for CDBG grantees that intend to incur eligible costs prior to the award of FY 2016 funding. Some activities might otherwise be interrupted while implementing these revised procedures. In addition, grantees might not otherwise be able to use CDBG funds for planning and administrative costs of administering their programs. In order to address communities' needs and to ensure that programs can continue without disturbance, this waiver will allow grantees to incur pre-award costs on a timetable comparable to that under which grantees have operated in past years. This waiver is available for use by any applicable CDBG grantee whose action plan submission is delayed past the normal submission date because of delayed enactment of FY 2016 appropriations for the Department. This waiver authority is only in effect until August 16, 2016.

Contact: Steve Johnson, Director, Entitlement Communities Division, Community Planning and Development, Department of Housing and Urban Development, 451 7th Street SW., Room 7282, Washington, DC 20410, telephone (202) 402-4548.

• Regulation: 24 CFR 882.806(a)(2)(ii).

Project/Activity: The Housing Authority of the City of Los Angeles requested a waiver of 24 CFR 882.806(a)(2)(ii) to allow more time to complete the rehabilitation of the Single Room Occupancy Marion Hotel located at 642 Crocker Street.

Nature of Requirement: The regulation at 24 CFR 882.806(a)(2)(ii) provides that the owner must complete the rehabilitation of the Section 8 Moderate Rehabilitation Single Room Occupancy (SRO) project and the contract executed within 12 months of the execution of the Annual Contributions Contract.

Granted By: Harriet Tregoning, Principal Deputy Assistance Secretary for Community Planning and Development.

Date Granted: February 19, 2016.

Reason Waived: The Housing Authority of the City of Los Angeles had two potential developers that backed out of the project for financial and other reasons. HUD determined that the new developer has a financially feasible project that would require at least 7 months to complete the project, which is beyond the time limitation of the execution of the Annual Contributions Contract.

Contact: Norman Suchar, Director, Office of Special Needs Assistance Programs, Community Planning and Development, Department of Housing and Urban Development, 451 7th Street SW., Room 7262, Washington, DC 20410, telephone (202) 402-5015.

• Regulation: Neighborhood Stabilization Program 3 Notice published on October 19, 2010, at 75 FR 64322 (II.H.3.F) in accordance with Title XII of Division A under the heading Community Planning and Development: Community Development Fund of the American Recovery and Reinvestment Act of 2009.

Project/Activity: Richland County, OH requested a waiver of the 10 percent demolition cap under the Neighborhood Stabilization Program (NSP) which restricts grantees from spending more than 10 percent of total grant funds on demolition activities. The demolition waiver request combined Richland County's program income ($50,062.41) with an earlier approved demolition waiver of $420,050, that total $470,112.41.

These funds will be used to demolish blighted and vacant structures that are becoming prevalent in Richland County, specifically in the City of Mansfield. The use of these funds in target areas will allow the county to remove hazards and the destabilizing influence of blighted properties, while adding value to the neighborhood stabilization strategy the county has undertaken. The ability to use program income for demolition activities will allow the county to close-out their NSP3 grant once these funds are exhausted.

Nature of Requirement: Section II.H.3.F of the NSP3 Notice provides that a grantee may not use more than ten percent of its grant for demolition activities.

Granted By: Harriet Tregoning, Principal Deputy Assistant Secretary for Community Planning and Development.

Date Granted: March 25, 2016.

Reason Waived: The use of these funds in target areas will allow Richland County to remove hazards and the destabilizing influence of blighted properties, while adding value to the neighborhood stabilization strategy the county has undertaken. The county's neighborhood stabilization strategy is in response to a depressed housing market that has seen Richland County incur 771 foreclosures in 2014, a twelve percent increase from the 684 foreclosures the county suffered in 2013. The ability to use program income for demolition activities will allow the county to close-out their NSP3 grant once these funds are exhausted.

Contact: Jessie Handforth Kome, Deputy Director, Office of Block Grant Assistance, Office of Community Planning and Development, Department of Housing and Urban Development, 451 7th Street SW., Room 7286, Washington, DC 20410, telephone (202) 402-5539.

• Regulation: Neighborhood Stabilization Program 3 Notice published on October 19, 2010, at 75 FR 64322 (II.H.3.F) in accordance with Title XII of Division A under the heading Community Planning and Development: Community Development Fund of the American Recovery and Reinvestment Act of 2009.

Project/Activity: Saginaw, MI requested a waiver of the 10 percent demolition cap under the Neighborhood Stabilization Program (NSP) which restricts grantees from spending more than 10 percent of total grant funds on demolition activities. The demolition waiver request submitted was for $97,614 or eight percent of its NSP3 allocation, and was for the continued demolition and removal of hazards and blighted properties.

Nature of Requirement: Section II.H.3.F of the NSP3 Notice provides that a grantee may not use more than 10 percent of its grant for demolition activities.

Granted By: Harriet Tregoning, Principal Deputy Assistant Secretary for Community Planning and Development.

Date Granted: February 24, 2016.

Reason Waived: The market conditions in the Saginaw metro area require a mix of demolition of unsafe structures coupled with the preservation of housing units to stabilize communities that have suffered from foreclosures and abandonment. The housing vacancy rate in the NSP target area fluctuates between eighteen to 35 percent as of early 2016, despite the fact that the unemployment rate in the immediate area has steadily improved. The use of the final $97,614 is the most effective means to meet the needs of the Saginaw community.

Contact: Jessie Handforth Kome, Deputy Director, Office of Block Grant Assistance, Community Planning and Development, Department of Housing and Urban Development, 451 7th Street SW., Room 7286, Washington, DC 20410, telephone (202) 402-5539.

II. Regulatory Waivers Granted by the Office of Housing—Federal Housing Administration (FHA)

For further information about the following regulatory waivers, please see the name of the contact person that immediately follows the description of the waiver granted.

• Regulation: 24 CFR 219.220(b).

Project/Activity: Woodland Christian Towers, FHA Project Number 114-44801T, Houston, Texas. Woodland Christian Towers, Incorporated (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Edward L. Golding, Principal Deputy Assistant Secretary for Housing.

Date Granted: February 1, 2016.

Reason Waived: The owner requested and was granted waiver of the requirement to repay the Flexible Subsidy Operating Assistance Loan in full when it became due. Deferring the loan payment will preserve this affordable housing resource for an additional 30 years through the execution and recordation of a Rental Use Agreement.

Contact: James Wyatt, Account Executive, Field Asset Management and Program Administration Division, Office of Housing, Department of Housing and Urban Development, 451 7th Street SW., Room 6172, Washington, DC 20410, telephone (202) 402-2519.

• Regulation: 24 CFR 203.41 and 24 CFR 206.45.

Project/Activity: Properties eligible for FHA-insured mortgages.

Nature of Requirement: The Amended and Restated Condominium Bylaws of the Waterway Pines condominium project contains restrictions on conveyance rendering this project, as provided in 24 CFR 203.41, ineligible for FHA approval. Additionally, any Home Equity Conversion Mortgage (HECM) secured by a dwelling subject to the covenants is ineligible, a provided in 24 CFR 206.45, for FHA insurance as HECM properties are required to be freely marketable and only permits a property to have a restriction on conveyance when permitted. The waiver is applicable to issuance of a case number for the property located at 367 Timberlake Drive E, Unit #125, Holland, Michigan 49424 only.

Granted By: Edward L. Golding, Principal Deputy Assistant Secretary for Housing.

Date Granted: February 29, 2016.

Reason Waived: Due to extenuating circumstances, this waiver was issued so that the purchaser did not lose the opportunity to purchase an affordable housing unit based on the Association Board's reluctance to amend the legal documents to obtain FHA condominium project approval.

Contact: Elissa O. Saunders, Director, Office of Single Family Program Development, Office of Housing, Department of Housing and Urban Development, 451 7th Street SW., Room 9278, Washington, DC 20410, telephone (202) 708-2121.

• Regulation: 24 CFR 232.7.

Project/Activity: Les Mason is a memory care facility. The facility does not meet the requirements of 24 CFR 232.7 “Bathroom” of FHA's regulations. The project is located in Crever Coeur, MO.

Nature of Requirement: The regulation at 24 CFR 232.7 mandates in a board and care home or assisted living facility that not less than one full bathroom must be provided for every four residents. Also, the bathroom cannot be accessed from a public corridor or area.

Granted By: Edward L. Golding, Principal Deputy Assistant Secretary for Housing.

Date Granted: February 29, 2016.

Reason Waived: The project is for memory care, all rooms have half-bathrooms and the resident to full bathroom ratio is 11: 1. The project meets the State of Missouri's licensing requirements for bathing and toileting facilities.

Contact: Vance T. Morris, Operations Manager, Office of Healthcare Programs, Office of Housing, Department of Housing and Urban Development, 451 7th Street SW., Room 2337, Washington, DC 20401, telephone (202) 402-2419.

• Regulation: 24 CFR 266.638(b) and (d).

Project/Activity: Louisiana Housing Corporation (LHC), New Orleans, Louisiana Project, St. Martin Manor Project Number: 064-98014, Project: Villa Additions, Project Number: 064-98017.

Nature of Requirement: HUD's regulation at CFR 266.638(b) and (d) for debenture maturity and interest rate requirement is that the HFA Debenture shall, during the extended period, continue to bear interest as described below at HUD's published debenture rate at the earlier of initial endorsement or final endorsement. The HFA debenture extension shall bear interest at HUD's published debenture rate at the earlier of initial endorsement or final endorsement.

Granted By: Edward L. Golding, Principal Deputy Assistant Secretary for Housing.

Date Granted: March 30, 2016.

Reason Waived: The waiver will ensure that LHC is able to complete the re-development of the two properties and replace needed affordable housing in New Orleans. The waiver is an extension of a previously granted waiver for the debenture interest accruals, and the Katrina related claims were related to an extraordinary natural disaster.

Contact: Theodore K. Toon, Director, Office of Multifamily Housing Development, Office of Housing, Department of Housing and Urban Development, 451 7th Street SW., Room 6134, Washington, DC 20410, telephone (202) 402-8386.

• Regulation: 24 CFR 266.100(a)(5).

Project/Activity: Utah Housing Corporation (UHC), West Valley City, Utah.

Nature of Requirement: The regulation at 24 CFR 266.100(a)(5) requires housing finance agencies seeking participation in the Section 542(c) HFA Risk Sharing program to have at least 5 years of experience in multifamily underwriting.

Granted by: Edward L. Golding, Principal Deputy Assistant Secretary for Housing.

Date Granted: March 30, 2016.

Reason Waived: HUD determined that UHC is a qualified and experienced agency and meets the basic program qualifications and documented significant financial capacity to participate in the Risk Sharing Program. UHC's waiver approval and participating in the Risk Sharing Program are subject to the following conditions: (1) UHC participation will be limited to Level I (50/50) risk share only (UHC has the option to apply for level II risk share status once five years of successful underwriting has been achieved.); (2) UHC will confirm that it continues to hold an issuer rating of “A” or better from a national credit rating agency; (3) UHC will operate under a probationary period, until such time as it has obtained two Firm Commitments for two risk share transactions; and (4) UHC will work with the Denver Hub to complete a quality assurance review to ensure that UHC has complied with its own procedures for project underwriting.

Contact: Theodore K. Toon, Director, Office of Multifamily Housing Development, Office of Housing, Department of Housing and Urban Development, 451 7th Street SW., Room 6134, Washington, DC 20410, telephone (202) 402-8386.

• Regulation: 24 CFR 891.165.

Project/Activity: Campbell Ridge Apartments, King, NC, Project Number: 053-HD255/NC19-Q101-004.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: January 7, 2016.

Reason Waived: Additional time was needed for the office to update the firm commitment package.

Contact: Alicia Anderson, Branch Chief, Grants and New Funding, Office of Housing, Department of Housing and Urban Development, 451 7th Street SW., Room 6138, Washington, DC 20410, telephone (202) 402-5787.

• Regulation: 24 CFR 891.165.

Project/Activity: VOA Living Center of Lake City, Lake City, FL, Project Number: 063-HD030/FL29-Q101-004.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: February 28, 2016.

Reason Waived: Additional time was needed for the office to review the initial closing package.

Contact: Alicia Anderson, Branch Chief, Grants and New Funding, Office of Housing, Department of Housing and Urban Development, 451 7th Street SW., Room 6138, Washington, DC 20410, telephone (202) 402-5787.

• Regulation: 24 CFR 891.165.

Project/Activity: Victoria at COMM22, San Diego, CA, Project Number: 129-EE036/CA33-S101-001.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: March 31, 2016.

Reason Waived: Additional time was needed to meet other requirements of the State of California and the tax credit investor for receipt of their loans and capital contributions.

Contact: Alicia Anderson, Branch Chief, Grants and New Funding, Office of Housing, Department of Housing and Urban Development, 451 7th Street SW., Room 6138, Washington, DC 20410, telephone (202) 402-5787.

• Regulation: Waiver of Requirements of Mortgagee Letter 2011-22, Condominium Project Approval and Processing Guide, Insurance Requirements.

Project/Activity: Properties eligible for FHA-insured mortgages.

Nature of Requirement: FHA's current insurance requirement is that a HOA maintain master master/blanket hazard and liability property insurance for the replacement cost of the entire project, including the structures.

Granted By: Edward L. Golding, Principal Deputy Assistant Secretary for Housing.

Date Granted: January 5, 2016.

Reason Waived: In some circumstances, HOA legal governing documents assign the responsibility to the individual unit owner to obtain and maintain insurance coverage for certain condominium project types; Manufactured Housing Condominium Project (MHCP), Detached Condominium Housing Project (DCHP), and Common Interest Housing Development (CIHD). To assist in ensuring the continued availability of affordable housing, a waiver of the current condominium unit insurance requirements that allow the individual unit owner to obtain and maintain their own insurance coverage is required. The issuance of the waiver is consistent with the Department's objectives to expand access to mortgage credit, while providing appropriate safeguards to waive the insurance requirements.

Contact: Elissa O. Saunders, Director, Office of Single Family Program Development, Office of Housing, Department of Housing and Urban Development, 451 7th Street SW., Room 9278, Washington, DC 20410, telephone (202) 708-2121.

III. Regulatory Waivers Granted by the Office of Public and Indian Housing

For further information about the following regulatory waivers, please see the name of the contact person that immediately follows the description of the waiver granted.

• Regulation: 24 CFR 5.801(c)(1) and (d)(1).

Project/Activity: Haverhill Housing Authority (MA087).

Nature of Requirement: The regulations establish certain reporting compliance dates. The audited financial statements are required to be submitted to the Real Estate Assessment Center (REAC) no later than nine months after the housing authority's (HA) fiscal year end (FYE), in accordance with the Single Audit Act and OMB Circular A-133.

Granted By: Lourdes Castro Ramírez, Principal Deputy Assistant Secretary for Public and Indian Housing.

Date Granted: February 23, 2016.

Reason Waived: The HA is a Section 8 only entity with the Housing Choice Program, requesting additional time to submit its audited financial data for fiscal year end (FYE) March 31, 2015. The agency's fee accountant was unable to complete a scheduled merger with an auditing firm in time enough to perform and submit the audited information. The HA has until March 31, 2016, to complete and submit its audited financial data to the Department. The additional time would allow the auditor necessary time to compile and complete the agency's audited financial data report.

This FASS audited financial submission waiver (extension) does not apply to Single Audit submissions to the Federal Audit Clearinghouse and the HA is required to meet the Single Audit due dates.

Contact: Dee Ann R. Walker, Acting Program Manager, NASS, Real Estate Assessment Center, Office of Public and Indian Housing, Department of Housing and Urban Development, 550 12th Street SW., Room 100, Washington, DC 20410, telephone (202) 475-7908.

• Regulation: 24 CFR 5.801(c)(1) and (d)(1).

Project/Activity: Mohave County Housing Authority (AZ043).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramírez, Principal Deputy Assistant Secretary for Public and Indian Housing.

Date Granted: March 7, 2016.

Reason Waived: The (HA is a Section 8 only entity requesting additional time to submit its audited financial data for its fiscal year end (FYE) of June 30, 2015. The County-wide report for the state of Arizona's Office of the Auditor General had been delayed due to incomplete information of pension financial liability; the HA is requesting a 60-day extension to align with the state's audited financial report. The HA has until May 31, 2016, to complete and submit its audited financial data to HUD. The additional time would allow the auditor necessary time to compile and complete the agency's audited financial data report.

This FASS audited financial submission waiver (extension) does not apply to Single Audit submissions to the Federal Audit Clearinghouse and the HA is required to meet the Single Audit due dates.

Contact: Dee Ann R. Walker, Acting Program Manager, NASS, Real Estate Assessment Center, Office of Public and Indian Housing, Department of Housing and Urban Development, 550 12th Street SW., Room 100, Washington, DC 20410, telephone (202) 475-7908.

• Regulation: 24 CFR 5.801(c)(1) and (d)(1).

Project/Activity: Tallahassee Housing Authority (FL073).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramírez, Principal Deputy Assistant Secretary for Public and Indian Housing.

Date Granted: March 25, 2016.

Reason Waived: The HA is requesting an additional time to submit its audited financial data for its fiscal year end (FYE) of June 30, 2015. The HAs cash balances for FY 2014 and FY 2015 were not reconciled as a result of converting to a new accounting system and a new software system. Also, the cash transactions were posted to incorrect funds and charged to incorrect bank accounts which rendered the HA's records unreliable resulting in the HA's auditor issuing a Disclaimer of opinion for FYE June 30, 2014, audited financial statements, and issued an adverse opinion on the Major Federal Program Compliance for the Housing Choice Vouchers program and the Mainstream Vouchers program. In addition, the Finance Supervisor was fired as a result of fraud allegations and the Finance Director resigned. The HA has until May 31, 2016, to complete and submit its audited financial data to HUD. The additional time would allow the auditor necessary time to compile and complete the agency's audited financial data report. This FASS audited financial submission waiver (extension) does not apply to Single Audit submissions to the Federal Audit Clearinghouse and the HA is required to meet the Single Audit due dates.

Contact: Dee Ann R. Walker, Acting Program Manager, NASS, Real Estate Assessment Center, Office of Public and Indian Housing, Department of Housing and Urban Development, 550 12th Street SW., Room 100, Washington, DC 20410, telephone (202) 475-7908.

• Regulation: 24 CFR 982.503(a)(3) and (c)(2).

Project/Activity: Housing Authority of the City of Los Angeles (HACLA) in Los Angeles, California, requested a waiver of 24 CFR 982.503(a)(3) and 982.503(c)(2) so that it could establish different payment standard amounts for its HUD-Veterans Affairs Supportive Housing (VASH) participants.

Nature of Requirement: The regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area. The regulation at 24 CFR 982.503(c)(2) states that the HUD Field Office may approve an exception payment standard amount from 110 percent of the published FMR to 120 percent of the published FMR if the Field Office determines that approval is justified by either the median rent method or the 40th or 50th percentile rent method and that such approval is also supported by an appropriate program justification.

Granted By: Lourdes Castro Ramírez, Principal Deputy Assistant Secretary for Public and Indian Housing.

Date Granted: January 28, 2016.

Reason Waived: HACLA wished to establish a different payment standard schedule for participants in its HUD-VASH program because these families are traditionally more difficult to house when affordable housing is in short supply.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(a)(3) and (c)(2).

Project/Activity: Housing Authority of the County of Los Angeles (HACoLA) in Alhambra, California, requested a waiver of 24 CFR 982.503(a)(3) and 982.503(c)(2) so that it could establish different payment standard amounts for its HUD-Veterans Affairs Supportive Housing (VASH) participants.

Nature of Requirement: The regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area. The regulation at 24 CFR 982.503(c)(2) states that the HUD Field Office may approve an exception payment standard amount from 110 percent of the published FMR to 120 percent of the published FMR if the Field Office determines that approval is justified by either the median rent method or the 40th or 50th percentile rent method and that such approval is also supported by an appropriate program justification.

Granted By: Lourdes Castro Ramírez, Principal Deputy Assistant Secretary for Public and Indian Housing.

Date Granted: February 5, 2016.

Reason Waived: HACoLA wished to establish a different payment standard schedule for participants in its HUD-VASH program because these families are traditionally more difficult to house when affordable housing is in short supply.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(a)(3) and (c)(2).

Project/Activity: Housing Authority of the County of the City of Santa Rosa in Santa Rosa (HACSR), California, requested a waiver of 24 CFR 982.503(a)(3) and 982.503(c)(2) so that it could establish different payment standard amounts for its HUD-Veterans Affairs Supportive Housing (VASH) participants.

Nature of Requirement: The regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area. The regulation at 24 CFR 982.503(c)(2) states that the HUD Field Office may approve an exception payment standard amount from 110 percent of the published FMR to 120 percent of the published FMR if the Field Office determines that approval is justified by either the median rent method or the 40th or 50th percentile rent method and that such approval is also supported by an appropriate program justification.

Granted By: Lourdes Castro Ramírez, Principal Deputy Assistant Secretary for Public and Indian Housing.

Date Granted: February 10, 2016.

Reason Waived: HACSR wished to establish a different payment standard schedule for participants in its HUD-VASH program because these families are traditionally more difficult to house when affordable housing is in short supply.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(c), (c)(4)(ii) and (c)(5).

Project/Activity: Burleigh County Housing Authority (BCHA) in Bismarck, North Dakota, requested waivers of 24 CFR 982.503(c), (c)(4)(ii) and (c)(5) so that it could establish exception payment standards at 120 percent of the FMRs due to oil exploration's effect on housing.

Nature of Requirement: The regulation at 24 CFR 982.503(c) establishes the methodology for establishing exception payment standards for an area. The regulation at 24 CFR 503(c)(4)(ii) states that HUD will only approve an exception payment standard amount after six months from the date of HUD approval of an exception payment standard amount above 110 percent to 120 percent of the published fair market rent (FMR). The regulation at 24 CFR 982.503(c)(5) states that the total population of a HUD-approved exception areas in an FMR area may not include more than 50 percent of the population of the FMR area.

Granted By: Lourdes Castro Ramírez, Principal Deputy Assistant Secretary for Public and Indian Housing.

Date Granted: February 26, 2016.

Reason Waived: These waivers were granted because of increased economic activity and lack of affordable housing due to natural resource exploration.

Contact: Becky Primeaux, Director, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Housing Authority of the County of Alameda (HACA) in Hayward California, requested a waiver of 24 CFR 982.505(d) so that it could approve an exception payment standard amount above 120 percent of the FMR as a reasonable accommodation.

Nature of Requirement: The regulation at 24 CFR 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: January 7, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: New York Homes and Community Renewal (NYHCR), in New York, New York requested a waiver of 24 CFR 982.505(d) so that it could approve an exception payment standard amount above 120 percent of the FMR as a reasonable accommodation.

Nature of Requirement: The regulation at 24 CFR 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: January 7, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Peninsula Housing Authority (PHA) in Port Angeles, Washington, requested a waiver of 24 CFR 982.505(d) so that it could approve an exception payment standard amount above 120 percent of the FMR as a reasonable accommodation.

Nature of Requirement: The regulation at 24 CFR 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: February 3, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Howard County Housing (HCH) in Columbia, Maryland, requested a waiver of 24 CFR 982.505(d) so that it could approve an exception payment standard amount above 120 percent of the FMR as a reasonable accommodation.

Nature of Requirement: The regulation at 24 CFR 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: February 5, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Boston Housing Authority (BHA) in Boston, Massachusetts, requested a waiver of 24 CFR 982.505(d) so that it could approve an exception payment standard amount above 120 percent of the FMR as a reasonable accommodation.

Nature of Requirement: The regulation at 24 CFR 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: February 26, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Dedham Housing Authority (DHA) in Dedham, Massachusetts, requested a waiver of 24 CFR 982.505(d) so that it could approve an exception payment standard amount above 120 percent of the FMR as a reasonable accommodation.

Nature of Requirement: The regulation at 24 CFR 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: February 26, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Medford Housing Authority (MHA) in Medford, Massachusetts, requested a waiver of 24 CFR 982.505(d) so that it could approve an exception payment standard amount above 120 percent of the FMR as a reasonable accommodation.

Nature of Requirement: The regulation at 24 CFR 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: March 23, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Colorado Division of Housing (CDH) in Denver, Colorado, requested a waiver of 24 CFR 982.505(d) so that it could approve an exception payment standard amount above 120 percent of the FMR as a reasonable accommodation.

Nature of Requirement: The regulation at 24 CFR 982.505(d) states that a public housing agency may only approve a higher payment standard for a family as a reasonable accommodation if the higher payment standard is no more than 120 percent of the fair market rent (FMR) for the unit size.

Granted By: Lourdes Castro Ramírez, Principal Deputy Assistant Secretary for Public and Indian Housing.

Date Granted: March 30, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Deerfield Beach Housing Authority (DBHA) in Deerfield Beach, Florida, requested a waiver of 24 CFR 985.101(a) so that it could submit its Section Eight Management Assessment Program (SEMAP) certification after the deadline.

Nature of Requirement: The regulation at 24 CFR 985.101(a) states a PHA must submit the HUD-required SEMAP certification form within 60 calendar days after the end of its fiscal year.

Granted By: Lourdes Castro Ramírez, Principal Deputy Assistant Secretary for Public and Indian Housing.

Date Granted: February 24, 2016.

Reason Waived: This waiver was granted because for the DBHA's fiscal year ending September 30, 2015. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Lake County Housing Authority (LCHA) in Grayslake, Illinois, requested a waiver of 24 CFR 985.101(a) so that it could submit its Section Eight Management Assessment Program (SEMAP) certification after the deadline.

Nature of Requirement: The regulation at 24 CFR 985.101(a) states a PHA must submit the HUD-required SEMAP certification form within 60 calendar days after the end of its fiscal year.

Granted By: Lourdes Castro Ramírez, Principal Deputy Assistant Secretary for Public and Indian Housing.

Date Granted: March 3, 2016.

Reason Waived: This waiver was granted because for the LCHA's fiscal year ending September 30, 2015. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Housing and Community Services Agency of Lane County (HCSALC) in Eugene, Oregon, requested a waiver of 24 CFR 985.101(a) so that it could submit its Section Eight Management Assessment Program (SEMAP) certification after the deadline.

Nature of Requirement: The regulation at 24 CFR 985.101(a) states a PHA must submit the HUD-required SEMAP certification form within 60 calendar days after the end of its fiscal year.

Granted By: Lourdes Castro Ramírez, Principal Deputy Assistant Secretary for Public and Indian Housing

Date Granted: March 7, 2016.

Reason Waived: This waiver was granted for the HCSALC's fiscal year ending September 30, 2015. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Sedalia Housing Authority (SHA) in Sedalia, Missouri, requested a waiver of 24 CFR 985.101(a) so that it could submit its Section Eight Management Assessment Program (SEMAP) certification after the deadline.

Nature of Requirement: The regulation at 24 CFR 985.101(a) states a PHA must submit the HUD-required SEMAP certification form within 60 calendar days after the end of its fiscal year.

Granted By: Lourdes Castro Ramírez, Principal Deputy Assistant Secretary for Public and Indian Housing.

Date Granted: March 29, 2016.

Reason Waived: This waiver was granted because for the SHA's fiscal year ending December 31, 2015. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 905.314.

Project/Activity: The Chester Housing Authority (CHA) requested a good cause waiver to transfer 33 percent of its 2016 Capital Fund Formula Grant into BLI 1406-Operations, in part to fund certain anticrime measures.

Nature of Requirement: In accordance with 24 CFR 905.314, PHAs may use Operating Funds for anticrime and antidrug activities, including costs of providing adequate security for public housing residents, including above-baseline service agreements.

Granted By: Lourdes Castro Ramírez, Principal Deputy Assistant Secretary for Public and Indian Housing.

Date Granted: May 22, 2016.

Reason Waived: CHA's letter of March 2016 included all the information provided by the Capital Fund Processing Guidance to make a good cause determination. Specifically, CHA requested $628,435.00 to be transferred to Budget Line Item 1406 for Operations. CHA provided recent crime data at the developments and indicated the specific activities that it plans to use the funds for.

Contact: Dominique Blom, Deputy Assistant Secretary for the Office of Public Housing Investments, Office of Public and Indian Housing, 451 7th Street SW., Room 4130, Washington, DC 20140, telephone (202) 402-4181.

• Regulation: 24 CFR 905.314.

Project/Activity: The Westmoreland County Housing Authority (WCHA) requested a good cause waiver to transfer 27 percent of its 2016 Capital Fund Formula Grant into BLI 1406-Operations, in part to fund certain anticrime measures.

Nature of Requirement: In accordance 24 CFR 905.314, PHAs may use Operating Funds for anticrime and antidrug activities, including costs of providing adequate security for public housing residents, including above-baseline service agreements.

Granted By: Lourdes Castro Ramírez, Principal Deputy Assistant Secretary for Public and Indian Housing.

Date Granted: May 29, 2016.

Reason Waived: WCHA's letter of March 2016 included all the information provided by the Capital Fund Processing Guidance to make a good cause determination. Specifically, WCHA requested $550,086 to be transferred to Budget Line Item 1406 for Operations. WCHA provided recent crime data at the developments and indicated the specific activities that it plans to use the funds for.

Contact: Dominique Blom, Deputy Assistant Secretary for the Office of Public Housing Investments, Office of Public and Indian Housing, Department of Housing and Urban Development, 451 7th Street SW., Room 4130, Washington, DC 20140, telephone (202) 402-4181.

[FR Doc. 2016-13699 Filed 6-8-16; 8:45 am]

BILLING CODE 4210-67-P